DEPARTMENT OF ENERGY

Federal Energy Regulatory Commission

[Project No. 2520-098]

Great Lakes Hydro America, LLC; Notice of Application for Temporary Water Level and Flow Variance Accepted for Filing, Soliciting Comments, Motions To Intervene, and Protests

Take notice that the following hydroelectric application has been filed with the Commission and is available for public inspection:

a. Application Type: Temporary water level and flow variance.

b. Project No: 2520-098.

c. Date Filed: September 30, 2024, and supplemented on January 7, 2025; April 28, 2025; and May 7, 2025.

d. Applicant: Great Lakes Hydro America, LLC.

e. Name of Project: Mattaceunk Hydroelectric Project.

f. Location: The project is located on the Penobscot River in Aroostook and Penobscot Counties, Maine, and does not occupy Federal lands.

g. Filed Pursuant to: Public Utility Regulatory Policies Act of 1978, 16 U.S.C. 2705, 2708.

h. Applicant Contact: Randall Dorman, Compliance Manager, Brookfield Renewable, 150 Main Street, Lewiston, ME 04240; randy.dorman@brookfieldrenewable.com; 207-402-0481.

i. FERC Contact: Selina Sumi, (202) 502-6892, Selina.Sumi@ferc.gov.

j. Cooperating agencies: With this notice, the Commission is inviting Federal, State, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: June 11, 2025.

The Commission strongly encourages electronic filing. Please file comments, motions to intervene, and protests using the Commission's eFiling system at https://www.ferc.gov/docs-filing/efiling.asp. Commenters can submit brief comments up to 6,000 characters, without prior registration, using the eComment system at https://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket number P-2520-098. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The licensee requests a temporary variance of requirements of flow and water level to facilitate dam repair and maintenance. The licensee proposes maintenance of concrete repairs to the upstream fishway structures, replace the sluice gate due to deterioration, and perform concrete repairs to the leaking slots immediately downstream of the sluice gate. The licensee also proposes to address other maintenance needs, including replacement of the roll gate seal to reduce leakage and repair of the fishway trap's guide support structures to ensure that the trap remains operable as a screen for keeping debris out of the fishway. Although the fishway maintenance is not a dam safety concern, the work is necessary in preparation for upcoming and required evaluations of the fishway for upstream Atlantic salmon (Salmo salar) passage that begin in 2026. In order to perform these repairs safely and efficiently, the licensee proposes to modify outflows and draw the impoundment down for a period of up to nine weeks, beginning on August 1, 2025, after which the water surface elevation would be raised and returned to the normal level.

In support of the proposed impoundment drawdown, and the subsequent maintenance and repair work, the licensee filed a draft Biological Assessment (BA) on January 7, 2025, which addressed the effects of the proposed action on the Gulf of Maine Distinct Population Segment (GOM DPS) of Atlantic salmon, which is federally listed as endangered under the Endangered Species Act. The draft BA also evaluated the effects of the proposed action on designated critical habitat for GOM DPS of Atlantic salmon. By letter dated March 20, 2025, Commission staff adopted the draft BA without modification as our final BA, and requested formal consultation with the National Marine Fisheries Service (NMFS). On April 21, 2025, NMFS notified the Commission that all information required to initiate formal consultation is included in the consultation request, BA, or is otherwise accessible for consideration and reference. The licensee filed supplemental information on April 28, 2025 and May 7, 2025, that discussed debris removal work that would be conducted concurrently with the proposed drawdown.

m. Locations of the Application: This filing may be viewed on the Commission's website at https://www.ferc.gov using the “eLibrary” link. Enter the docket number excluding the last three digits in the docket number field to access the document. You may also register online at https://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

Dated: May 12, 2025.
Debbie-Anne A. Reese,
Secretary.

[FR Doc. 2025-08835 Filed 5-16-25; 8:45 am]

BILLING CODE 6717-01-P